DEPARTMENT OF HOMELAND SECURITY

Aviation Security Advisory Committee

AGENCY: Transportation Security Administration, DHS.

ACTION: Committee Management; Notice of Federal Advisory Committee Re-Establishment.

SUMMARY: The Transportation Security Administration (TSA) announces the re-establishment of the Aviation Security Advisory Committee (ASAC). The Secretary of Homeland Security has determined that the re-establishment of ASAC is necessary and is in the public interest in connection with the performance of duties of TSA. This determination follows consultation with the Committee Management Secretariat, General Services Administration.

FOR FURTHER INFORMATION CONTACT: Dean Walter, ASAC Designated Federal Official, Transportation Security Administration (TSA-28), 601 12th St. South, Arlington, VA 20598-4028, Dean.Walter@dhs.gov, 571-227-2645.

SUPPLEMENTARY INFORMATION:

Background

ASAC was established in 1989 following the destruction of Pan American World Airways Flight 103 by a terrorist bomb. The committee helped TSA establish critical policies and procedures in consultation with leading industry organizations, other non-governmental organizations (NGOs) and stakeholder representatives concerning potential risks to aviation infrastructure, passengers and cargo; response capabilities that NGOs and other stakeholders control; and the economic, social, and political drivers that impact risk or response. ASAC is also a recurring forum for TSA to gather customer and stakeholder input concerning the effectiveness of security actions and proposals, the costs and burdens associated with security actions and proposals, and the general level of customer satisfaction TSA is engendering across affected constituencies. This committee has experience working together to identify problems, gather input and reach consensus on security issues that result in security initiatives and regulations that can be quickly implemented, are effective in terms of performance and cost, and have a lower impact on the commerce of aviation.

The Aviation Security Advisory Committee

The renewal and use of the Aviation Security Advisory Committee are determined to be in the public interest in connection with the performance of duties imposed on TSA by law as follows:

Name of Committee: Aviation Security Advisory Committee (ASAC).

Purpose and Objective: ASAC is being re-established in accordance with the provisions of the Federal Advisory Committee Act (FACA) 5 U.S.C. App. (Pub. L. 92-463). ASAC's mission is to examine areas of civil aviation security as tasked by TSA with the aim of addressing current issues and/or developing recommendations for improvements to civil aviation security methods, equipment and processes. The committee will provide advice and recommendations for improving aviation security measures to the Administrator of TSA. The committee will meet approximately twice each year, usually in the Washington, DC metropolitan area, but may meet more often as the need arises.

Members are recommended for appointment by the Administrator of TSA and appointed by and serve at the pleasure of the Secretary of Homeland Security. Members serve at their own expense and receive no salary, reimbursement of travel expenses or other compensation from the Federal Government. TSA retains authority to review the participation of any ASAC member and to recommend changes for cause at any time.

Balanced Membership Plans: The ASAC will be composed of individual members representing private sector organizations of key constituencies affected by aviation security requirements, including: Victims of terrorist acts against aviation; Law enforcement and security experts; Aviation consumer advocates; Airport tenants and general aviation; Airport operators; Airline management; Airline labor; Aircraft and security equipment manufacturers; and Air cargo representatives. The ASAC does not have a specific number of members allocated to any membership category and the number of members in a membership category may change to fit the needs of the Committee. However, all membership categories will be represented.

Membership Appointment Criteria: Individuals will be appointed based on the following criteria: (1) Not registered as a Federal Lobbyist per Presidential Memorandum—Lobbyists on Agency Boards and Commissions, dated June 18, 2010, and has not served in such a role for a two-year period prior to application; (2) background, experience and position support to one of the constituency groups (See Balanced Membership Plans section); and (3) represent a large portion of the constituency within a membership category.

Duration: Continuing.

Responsible TSA Officials: Dean Walter, ASAC Designated Official, Transportation Security Administration, 601 12th St. South, Arlington, VA 20598-4028, Dean.Walter@dhs.gov, 571-227-2645.

Issued in Arlington, Virginia, on June 30, 2011.
Douglas Hofsass,
Acting Assistant Administrator, Transportation Sector Network Management.

[FR Doc. 2011-17038 Filed 7-6-11; 8:45 am]

BILLING CODE 9110-05-P